SMALL BUSINESS ADMINISTRATION

[Disaster Declaration #21336 and #21337; ALASKA Disaster Number AK-20016]

Presidential Declaration of a Major Disaster for the State of Alaska

AGENCY: U.S. Small Business Administration.

ACTION: Notice.

SUMMARY: This is a Notice of the Presidential declaration of a major disaster for the State of Alaska (FEMA-4893-DR), dated October 22, 2025.

Incident: Severe Storms, Flooding, and remnants of Typhoon Halong.

DATES: Issued on October 22, 2025.

Incident Period: October 8, 2025 through October 13, 2025.

Physical Loan Application Deadline Date: December 22, 2025.

Economic Injury (EIDL) Loan Application Deadline Date: July 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given as a result of the President's major disaster declaration on October 22, 2025, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Areas (Physical Damage and Economic Injury Loans): Lower Kuskokwim Regional Educational Attendance Area, Lower Yukon Regional Educational Attendance Area, Northwest Arctic Borough.

Contiguous Areas (Economic Injury Loans Only):

Alaska: Bering Strait Regional Educational Attendance Area, Dillingham City School District, Iditarod Area Regional Educational Attendance Area, Kashunamiut Regional Educational Attendance Area, Kuspuk Regional Educational Attendance Area, North Slope Borough, Southwest Region Regional Educational Attendance Area, Yukon-Koyukuk Regional Educational Attendance Area, Yupiit Regional Educational Attendance Area.

The Interest Rates are:

| Percent
For Physical Damage:
Homeowners with Credit Available Elsewhere | 6.000
Homeowners without Credit Available Elsewhere | 3.000
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 213366 and for economic injury is 213370.

(Catalog of Federal Domestic Assistance Number 59008)

(Authority: 13 CFR 1234.3(b).)

James Stallings,
Associate Administrator, Office of Disaster Recovery and Resilience.

[FR Doc. 2025-19716 Filed 10-29-25; 8:45 am]

BILLING CODE 8026-09-P